DEPARTMENT OF THE INTERIOR

Bureau of Indian Affairs

[190A2100DD/AAKC001030/A0A501010.999900 253G]

Draft Environmental Impact Statement for the Little River Band Trust Acquisition and Casino Project, Township of Fruitport, Muskegon County, Michigan

AGENCY: Bureau of Indian Affairs, Interior.

ACTION: Notice of availability.

SUMMARY: This notice advises the public that the Bureau of Indian Affairs (BIA) as lead agency, with the Township of Fruitport, County of Muskegon, Little River Band of Ottawa Indians (Tribe), Federal Highway Administration, and the U.S. Environmental Protection Agency (EPA), serving as cooperating agencies, intends to file a Draft Environmental Impact Statement (DEIS) with the EPA in connection with the Tribe's application for transfer into trust by the United States of approximately 60 acres for gaming and other purposes to be located the Township of Fruitport, Muskegon County, Michigan. This notice also announces that the DEIS is now available for public review and that a public hearing will be held to receive comments on the DEIS.

DATES: Written comments on the DEIS must arrive within 45 days after EPA publishes its Notice of Availability in the Federal Register. The date and location of the public hearing on the DEIS will be announced at least 15 days in advance through a notice to be published in local newspaper, The Muskegon Chronicle, and online at www.littlerivereis.com.

ADDRESSES: You may mail or hand-deliver written comments to Mr. Timothy LaPointe, Midwest Regional Director, Bureau of Indian Affairs, Midwest Region, Norman Pointe II Building, 5600 West American Boulevard, Suite 500, Bloomington, Minnesota 55347. Please include your name, return address, and the caption: “DEIS Comments, Little River Band Trust Acquisition and Casino Project,” on the first page of your written comments. See the SUPPLEMENTARY INFORMATION section of this notice for addresses where the DEIS is available for review.

FOR FURTHER INFORMATION CONTACT: Mr. Felix Kitto, Regional Environmental Protection Specialist, Division of Environmental, Facilities, Safety and Cultural Resource Management (DEFSCRM), Bureau of Indian Affairs, Midwest Region, Norman Pointe II Building, 5600 West American Boulevard, Suite 500, Bloomington, Minnesota 55347; phone: (612) 725-4597; email: felix.kitto@bia.gov. Information is also available online at www.littlerivereis.com.

SUPPLEMENTARY INFORMATION: Public review of the DEIS is part of the administrative process for the evaluation of the Tribe's application to the BIA for the Federal trust acquisition of approximately 60 acres in the Township of Fruitport, Muskegon County, Michigan, upon which the Tribe proposes to develop a casino, hotel, parking, and other supporting facilities. A Notice of Intent was published in the Federal Register on September 21, 2015, as well as published in The Muskegon Chronicle. The BIA held a public scoping meeting for the project on October 15, 2015, at Fruitport Middle School, 3113 East Pontaluna Road, Fruitport, Michigan 49415.

Background: The Tribe's Proposed Project consists of the following components: (1) The transfer of an approximately 60-acre property from fee to trust status; (2) issuance of a Secretarial Determination by the Secretary of the Interior (Secretary) under Section 20 of the Indian Gaming Regulatory Act (IGRA) that gaming on the project site would be in the best interest of the Tribe and not detrimental to the surrounding community (25 U.S.C. 2719 (b)(1)(A)); and (3) development of the trust parcel and adjacent land owned by the Tribe, totaling approximately 86.5 acres, with a variety of uses including a casino, hotel, conference center, parking, and other supporting facilities. The proposed casino-hotel resort would include a hotel, a convention center, several restaurant facilities, and parking facilities. Access to the project site would be provided via two driveways: One along Harvey Street and one along East Ellis Road. Five service driveways, not for public use, would be located on East Ellis Road.

The following alternatives are considered in the DEIS: (1) Proposed Project; (2) Reduced Intensity Alternative; (3) Non-Gaming Alternative; (4) Custer Site Alternative and (5) No Action/No Development. Environmental issues addressed in the DEIS include geology and soils, water resources, air quality, biological resources, cultural and paleontological resources, socioeconomic conditions (including environmental justice), transportation and circulation, land use, public services, noise, hazardous materials, aesthetics, cumulative effects, and indirect and growth-inducing effects.

Locations where the DEIS is available for review: The DEIS will be available for review at the Fruitport Public Library located at 47 Park St., Fruitport, Michigan 49415, and online at www.littlerivereis.com. To obtain a compact disk copy of the DEIS, please provide your name and address in writing to Mr. Felix Kitto, Bureau of Indian Affairs, Midwest Regional Office. Contact information is listed in the FOR FURTHER INFORMATION CONTACT section of this notice. Individual paper copies of the DEIS will be provided only upon payment of applicable printing expenses by the requestor for the number of copies requested.

Public comment availability: Comments, including names and addresses of respondents, will be available for public review at the BIA address shown in the ADDRESSES section, during regular business hours, 8 a.m. to 4:30 p.m., Monday through Friday, except holidays. Before including your address, phone number, email address, or other personal identifying information in your comment, you should be aware that your entire comment—including your personal identifying information—may be made publicly available at any time. While you can ask in your comment that your personal identifying information be withheld from public review, the BIA cannot guarantee that this will occur.

Authority: This notice is published pursuant to Sec. 1503.1 of the Council of Environmental Quality Regulations (40 CFR parts 1500 through 1508) and Sec. 46.305 of the Department of the Interior Regulations (43 CFR part 46), implementing the procedural requirements of the NEPA of l969, as amended (42 U.S.C. 4371, et seq.), and is in the exercise of authority delegated to the Assistant Secretary—Indian Affairs by 209 DM 8.

Dated: November 9, 2018.
Tara Sweeney,
Assistant Secretary—Indian Affairs.

[FR Doc. 2018-25411 Filed 11-20-18; 8:45 am]

BILLING CODE 4337-15-P